DEPARTMENT OF COMMERCE

International Trade Administration

[A-570-900]

Diamond Sawblades and Parts Thereof From the People's Republic of China: Amended Final Results of Antidumping Duty Administrative Review; 2010-2011

AGENCY: Import Administration, International Trade Administration, Department of Commerce.

SUMMARY: The Department of Commerce (the Department) is amending the final results of the administrative review of the antidumping duty order on diamond sawblades and parts thereof (diamond sawblades) from the People's Republic of China (the PRC) to correct a ministerial error.¹ The period of review (POR) is November 1, 2010, through October 31, 2011.

¹ See Diamond Sawblades and Parts Thereof From the People's Republic of China: Final Results of Antidumping Duty Administrative Review; 2010-2011, 78 FR 36166 (June 17, 2013) (Final Results).

DATES: Effective Date: June 17, 2013.

FOR FURTHER INFORMATION CONTACT: Yang Jin Chun, AD/CVD Operations, Office 1, Import Administration, International Trade Administration, U.S. Department of Commerce, 14th Street and Constitution Avenue NW., Washington, DC 20230; telephone: (202) 482-5760.

SUPPLEMENTARY INFORMATION:

Background

On June 11, 2013, and June 13, 2013, the Department disclosed to interested parties its calculations for the Final Results. On June 17, 2013, Weihai Xiangguang Mechanical Industrial Co., Ltd. (Weihai) filed a ministerial error allegation. On June 24, 2013, the petitioner, Diamond Sawblades Manufacturers Coalition, filed comments in response to Weihai's ministerial error allegation.

Scope of the Order

The merchandise subject to the order is diamond sawblades. The diamond sawblades subject to the order are currently classifiable under subheadings 8202 to 8206 of the Harmonized Tariff Schedule of the United States (HTSUS), and may also enter under 6804.21.00. The HTSUS subheadings are provided for convenience and customs purposes. A full description of the scope of the order is contained in the decision memorandum dated concurrently with, and hereby adopted by, this amended final.² The written description is dispositive.

² See Memorandum entitled, “Decision Memorandum for Amended Final Results of the Antidumping Duty Administrative Review: Diamond Sawblades and Parts Thereof from the People's Republic of China covering the Period November 1, 2010, through October 31, 2011,” (Decision Memorandum for Amended Final).

Ministerial Error

Section 751(h) of the Tariff Act of 1930, as amended (the Act), and 19 CFR 351.224(f) define a “ministerial error” as an error “in addition, subtraction, or other arithmetic function, clerical error resulting from inaccurate copying, duplication, or the like, and any similar type of unintentional error which the Secretary considers ministerial.” After analyzing Weihai's ministerial error allegation, we have determined, in accordance with section 751(h) of the Act and 19 CFR 351.224(e), that we made a ministerial error in our calculations, having unintentionally incorporated certain factor-of-production variables from a subsequently-revised database into the Final Results for Weihei.

In accordance with section 751(h) of the Act and 19 CFR 351.224(e), we are amending the Final Results of this administrative review of the antidumping duty order on diamond sawblades from the PRC. The revised weighted-average dumping margins are listed below. For a detailed discussion, see Decision Memorandum for Amended Final.

Rate for Non-Selected Separate-Rate Recipients

As a result of the correction of the ministerial error, both respondents selected for individual examination have a dumping margin of zero percent.³ Consistent with section 735(c)(5)(B) of the Act, and because all prior rates for this proceeding were calculated using a methodology the Department abandoned in its Final Modification for Reviews pursuant to section 123 of the Uruguay Round Agreements Act,⁴ the Department's prior decisions in administrative reviews involving similar circumstances,⁵ we find that a reasonable method for determining the weighted-average dumping margins for the non-selected respondents in the amended final results of this administrative review is to average the weighted-average dumping margins calculated for the selected respondents. Consequently, the rate established for the non-selected separate rate respondents is 0.00 percent. For a detailed discussion, see Decision Memorandum for Amended Final.

³ See Final Results, 78 FR at 36167, and the Amended Final Results of the Review section below.

⁴ See Antidumping Proceedings: Calculation of the Weighted-Average Dumping Margin and Assessment Rate in Certain Antidumping Duty Proceedings; Final Modification, 77 FR 8101 (February 14, 2012) (Final Modification for Reviews).

⁵ See, e.g., Ball Bearings and Parts Thereof From France, Germany, and Italy: Preliminary Results of Antidumping Duty Administrative Reviews and Rescission of Antidumping Duty Administrative Reviews in Part, 77 FR 33159 (June 5, 2012), unchanged in Ball Bearings and Parts Thereof From France, Germany, and Italy: Final Results of Antidumping Duty Administrative Reviews; 2010-2011, 77 FR 73415 (December 10, 2012).

Amended Final Results of the Review

The amended weighted-average dumping margins for the administrative review are as follows:

Company ⁶ | Margin (percent)
Bosun Tools Co., Ltd
Chengdu Huifeng Diamond Tools Co., Ltd | 0.00
Danyang Huachang Diamond Tools Manufacturing Co., Ltd | 0.00
Danyang NYCL Tools Manufacturing Co., Ltd | 0.00
Danyang Weiwang Tools Manufacturing Co., Ltd | 0.00
Guilin Tebon Superhard Material Co., Ltd | 0.00
Hangzhou Deer King Industrial & Trading Co., Ltd | 0.00
Hebei Husqvarna-Jikai Diamond Tools Co., Ltd | 0.00
Huzhou Gu's Import & Export Co., Ltd | 0.00
Jiangsu Fengtai Diamond Tool Manufacture Co., Ltd | 0.00
Jiangsu Inter-China Group Corporation | 0.00
Jiangsu Youhe Tool Manufacturer Co., Ltd | 0.00
Quanzhou Zhongzhi Diamond Tool Co. Ltd | 0.00
Rizhao Hein Saw Co., Ltd | 0.00
Saint-Gobain Abrasives (Shanghai) Co., Ltd | 0.00
Shanghai Robtol Tool Manufacturing Co., Ltd | 0.00
Weihai Xiangguang Mechanical Industrial Co., Ltd ⁷ | 0.00
Wuhan Wanbang Laser Diamond Tools Co. | 0.00
Xiamen ZL Diamond Technology Co., Ltd | 0.00
Zhejiang Wanli Tools Group Co., Ltd | 0.00

Disclosure

We will disclose the calculation memorandum used in our analysis to parties to this proceeding within five days of the date of the publication of this notice pursuant to 19 CFR 351.224(b).

⁶ During this segment of the proceeding, we identified certain name variations for several companies. See Diamond Sawblades and Parts Thereof From the People's Republic of China: Preliminary Results of Antidumping Duty Administrative Review: 2010-11, 77 FR 73417, 73418-49, and accompanying Preliminary Decision Memorandum at 14, unchanged in Final Results.

⁷ Weihai exported some of the subject merchandise to the United States through its Korean parent company, Ehwa Diamond Industrial Co., Ltd. See, e.g., Weihai's March 23, 2012, section A response at 1-2.

Assessment

Pursuant to section 751(a)(2)(A) of the Act and 19 CFR 351.212(b), the Department shall determine, and U.S. Customs and Border Protection (CBP) shall assess, antidumping duties on all appropriate entries in accordance with the amended final results of this review. In accordance with the Final Modification for Reviews,⁸ we will instruct CBP to liquidate entries by the firms listed above without regard to antidumping duties.

⁸ See Antidumping Proceeding: Calculation of the Weighted-Average Dumping Margin and Assessment Rate in Certain Antidumping Duty Proceedings; Final Modification, 77 FR 8101 (February 14, 2012) (Final Modification for Reviews).

On October 24, 2011, the Department announced a refinement to its assessment practice in NME cases.⁹ Pursuant to this refinement in practice, for entries that were not reported in the U.S. sales databases submitted by Weihai, the Department will instruct CBP to liquidate such entries at the PRC-wide rate.

⁹ For a full discussion of this practice, see Non-Market Economy Antidumping Proceedings: Assessment of Antidumping Duties, 76 FR 65694 (October 24, 2011).

We intend to issue assessment instructions to CBP 15 days after the date of publication of the amended final results of review.

Cash Deposit Requirements

The following cash deposit requirements will be effective retroactively on any entries made on or after June 17, 2013, the date of publication of the Final Results, for all shipments of the subject merchandise entered, or withdrawn from warehouse, for consumption as provided by section 751(a)(2)(C) of the Act: (1) For subject merchandise exported by the companies listed above that have separate rates, the cash deposit rate will be the rate established in this amended final results of review for each exporter as listed above; (2) for previously investigated or reviewed PRC and non-PRC exporters not listed above that received a separate rate in a prior segment of this proceeding, the cash deposit rate will continue to be the exporter-specific rate; (3) for all PRC exporters of subject merchandise that have not been found to be entitled to a separate rate, the cash deposit rate will be that for the PRC-wide entity; (4) for all non-PRC exporters of subject merchandise which have not received their own rate, the cash deposit rate will be the rate applicable to the PRC exporter that supplied that non-PRC exporter. These deposit requirements shall remain in effect until further notice.

Notification

This notice serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective order (APO) of their responsibility concerning the return or destruction of proprietary information disclosed under APO in accordance with 19 CFR 351.305(a)(3). Timely written notification of the return or destruction of APO materials or conversion to judicial protective order is hereby requested. Failure to comply with the regulations and terms of an APO is a sanctionable violation.

These amended final results of review are issued and published in accordance with sections 751(h) and 777(i)(1) of the Act.

Dated: July 11, 2013.
Paul Piquado,
Assistant Secretary for Import Administration.

[FR Doc. 2013-17259 Filed 7-17-13; 8:45 am]

BILLING CODE 3510-DS-P